DEPARTMENT OF HEALTH AND HUMAN SERVICES

Centers for Medicare and Medicaid Services

[CMS-2183-N]

Funding Opportunity Title: Medicaid Program; Medicaid Infrastructure Grant Program To Support the Competitive Employment of People With Disabilities

ACTION: Notice.

Catalog of Federal Domestic Assistance No. 93.768

Important Dates

Deadline for Letter of Intent To Apply: States are encouraged to submit a notice of intent to apply for a grant no later than May 1, 2004. Submission of your letter of intent is optional and will not affect the approval of your application.

Date of Applicant's Teleconference: States interested in participating in a teleconference regarding this grant solicitation should check the Ticket to Work Web site listed below for the date and time.

Deadline for Grant Submission: Grant applications must be submitted by June 6, 2004 to be considered under the fiscal year 2005 annual funding cycle. Facsimile transmissions will not be accepted. Applications postmarked after June 6, 2004 will not be considered.

Funding Opportunity Description: This notice announces the availability of funding, through grants, for eligible States under section 203 of the Ticket to Work and Work Incentives Improvement Act of 1999 (TWWIIA). The grant program is designed to assist States in developing infrastructure to support the competitive employment of people with disabilities by extending necessary Medicaid coverage to those individuals. This notice also contains pertinent information where States may apply for the grant program.

Award Information: A total of $40 million has been appropriated by the legislation for the Medicaid infrastructure grant program for fiscal year 2005. As stipulated in section 203 of TWWIIA, funds appropriated under this section for previous fiscal years that are not awarded to States are available for award in 2005.

We expect to award approximately 46 grants. This includes both new and continuation grants. Award amounts will be between $500,000 and $2.0 million. Criteria for evaluating applications for funding will be listed in the grant solicitation (Web site address listed below).

Eligibility Information

Eligible Applicants: As authorized in section 203 of the TWWIIA legislation, entities eligible to apply are: States (or an instrumentality of the State as determined by State law), the District of Columbia, Puerto Rico, Guam, the United States Virgin Islands, and the Commonwealth of the Northern Marianas Islands.

Cost Sharing or Matching: Not applicable.

Application and Submission Information

Address To Obtain Application Package: Standard application forms and related instructions are available from the following Web site: http://forms.psc.gov/forms/ACFFSF/acffsf.html or from Nicole Nicholson, Centers for Medicare & Medicaid Services, Office of Operations Management, Acquisition and Grants Group, C2-21-15 Central Building, 7500 Security Boulevard, Baltimore, MD 21244-1850, (410) 786-5158, e-mail: NNicholson@cms.hhs.gov. Applications must be formally submitted to Nicole Nicholson.

Please note: Applicants are only required to submit an original application and two copies.

Web site: You may access up-to-date information about the Medicaid infrastructure grants and obtain information from the full grant solicitation grant at: http://www.cms.hhs.gov/twwiia.

Content and Form of Application Submission: This information is included in the grant solicitation referenced in the above Web site address.

Submission Dates: Applications are due June 6, 2004.

Intergovernmental Review: Applications for these grants are not subject to review under Executive Order 12372—Intergovernmental Review by Federal Agencies (45 CFR part 100).

Funding Restrictions: Not applicable.

Other Submission Requirements: Not applicable.

Application Review Information

Criteria: Specific criteria can be found in Appendix Three of the solicitation mentioned in the above-referenced Web site.

Review Selection Process: A panel of experts will conduct an objective review of all applications. The panelists will assess each application based on the review criteria to determine the merits of the proposal and the extent to which the State evidences the capacity to implement the Medicaid Infrastructure Grant. We reserve a limited right to ensure adequate reasonable geographic and other representation among States receiving grants. However, we will not exercise this right if there is a major qualitative difference between high-ranked applications and any application that would remedy a geographical imbalance. CMS will make final award decisions based on consideration of the comments and recommendations of the review panelists and availability of funds.

Anticipated Announcement Award Date: October 29, 2004.

Award Administration Information

Award Notice: Successful applicants will receive an award letter, notice of grant award, a profile sheet outlining the award amount, project officer and grant officer information, and grant terms and conditions.

Administrative and National Policy Requirements: Solicitation requirements can be found in the general solicitation referenced in the Web site mentioned above.

Reporting: Grantees are to submit three quarterly progress reports describing success in completing project goals and objectives and an annual report outlining yearly accomplishments. Reports are to be submitted to the grants officer electronically.

Agency Contacts

Questions about the grants may be directed to: Joe Razes, TWWIIA Program Manager, Disabled and Elderly Health Programs Group, Center for Medicaid and State Operations, Centers for Medicare & Medicaid Services, Room S2-14-26, 7500 Security Boulevard, Baltimore, MD 21244-1850, (410) 786-6126, fax: 410-786-9004, e-mail: JRazes@cms.hhs.gov.

Questions regarding the solicitation process may be directed to: Nicole Nicholson, Centers for Medicare & Medicaid Services, Office of Operations Management, Acquisition and Grants Group, C2-21-15 Central Building, 7500 Security Boulevard, Baltimore, MD 21244-1850, (410) 786-5158, fax: 410-786-9088, e-mail: nnicholson@cms.hhs.gov.

Application Receipt: CMS will not automatically notify applicants of the receipt of their application. Please contact Nicole Nicholson at nnicholson@cms.hhs.gov to confirm receipt.

SUPPLEMENTARY INFORMATION: This notice is the fifth such notice announcing the availability of funds for Medicaid infrastructure grants authorized by the Ticket to Work and Work Incentives Improvement Act. A total of 40 States currently have been awarded Medicaid infrastructure grants under the Ticket to Work Medicaid Infrastructure Grant Program, which provides Federal grant funding for 11 years through 2011. This notice is consistent with the four previous notices in soliciting States to apply for grants that will expand services and supports for workers with disabling conditions. States that wish to apply for these grants and desire further detailed information, such as application requirements, review procedures, an explanation of a timely submission, necessary forms, and other relevant information, should refer to the above-listed websites.

Approval of Collection of Information

This notice does not impose any new information collection and record keeping requirements subject to the Paperwork Reduction Act (PRA). Consequently, it does not need to be reviewed by the Office of Management and Budget (OMB) under the authority of PRA. The information collection requirements associated with applying for a grant are approved under OMB approval number 0938-0811.

Dated: March 5, 2004.
Dennis G. Smith,
Acting Administrator, Centers for Medicare & Medicaid Services.

[FR Doc. 04-6351 Filed 3-25-04; 8:45 am]

BILLING CODE 4120-01-P